SMALL BUSINESS ADMINISTRATION

[Disaster Declaration #16280 and #16281; MISSISSIPPI Disaster Number MS-00120]

Administrative Declaration of a Disaster for the State of Mississippi

AGENCY: U.S. Small Business Administration.

ACTION: Notice.

SUMMARY: This is a notice of an Administrative declaration of a disaster for the State of MISSISSIPPI dated 02/06/2020.

Incident: Severe Weather and Tornadoes.

Incident Period: 01/10/2020 through 01/11/2020.

DATES: Issued on 02/06/2020.

Physical Loan Application Deadline Date: 04/06/2020.

Economic Injury (EIDL) Loan Application Deadline Date: 11/06/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: DeSoto.

Contiguous Counties:

Mississippi: Marshall, Tate, Tunica.

Arkansas: Crittenden.

Tennessee: Shelby.

The Interest Rates are:

| Percent
For Physical Damage:
Homeowners with Credit Available Elsewhere | 3.000
Homeowners without Credit Available Elsewhere | 1.500
Businesses with Credit Available Elsewhere | 7.750
Businesses without Credit Available Elsewhere | 3.875
Non-Profit Organizations with Credit Available Elsewhere | 2.750
Non-Profit Organizations without Credit Available Elsewhere | 2.750
For Economic Injury:
Businesses & Small Agricultural Cooperatives without Credit Available Elsewhere | 3.875
Non-Profit Organizations without Credit Available Elsewhere | 2.750

The number assigned to this disaster for physical damage is 16280 C and for economic injury is 16281 0.

The States which received an EIDL Declaration # are Mississippi, Arkansas, Tennessee.

(Catalog of Federal Domestic Assistance Number 59008)

Dated: February 6, 2020.
Jovita Carranza,
Administrator.

[FR Doc. 2020-03240 Filed 2-18-20; 8:45 am]

BILLING CODE 8026-03-P